DEPARTMENT OF THE INTERIOR

Bureau of Land Management

[ES-960-1430-ET; WIES-016527]

Public Land Order No. 7694; Revocation of Executive Order Dated April 7, 1868; Wisconsin

AGENCY: Bureau of Land Management, Interior.

ACTION: Public Land Order.

SUMMARY: This order revokes in its entirety the withdrawal established by an Executive Order as to 9.06 acres of public land withdrawn from surface entry and reserved for use by the United States Coast Guard for lighthouse purposes. The reservation is no longer needed by the United States Coast Guard.

EFFECTIVE DATE: March 25, 2008.

FOR FURTHER INFORMATION CONTACT: Ida Doup, Bureau of Land Management-Eastern States, 7450 Boston Boulevard, Springfield, Virginia 22153, 703-440-1541.

SUPPLEMENTARY INFORMATION: This revocation is a record-clearing action only, since the 9.06 acres have been conveyed out of Federal ownership.

Order

By virtue of the authority vested in the Secretary of the Interior, by section 204 of the Federal Land Policy and Management Act of 1976, 43 U.S.C. 1714 (2000), it is ordered as follows:

The withdrawal established by Executive Order dated April 7, 1868, which reserved the following described public land for lighthouse purposes, is hereby revoked in its entirety:

Fourth Principal Meridian

T. 30 N., R. 28 E.,

Tract No. 37.

The area described contains 9.06 acres in Door County.

Dated: March 14, 2008.
C. Stephen Allred,
Assistant Secretary—Land and Minerals Management.

[FR Doc. E8-5997 Filed 3-24-08; 8:45 am]

BILLING CODE 4310-GJ-P